DEPARTMENT OF LABOR

Employment and Training Administration

[TA-W-60, 910]

HRU, Inc.; Technical Resources, Lansing, Michigan; Notice of Termination of Investigation

Pursuant to Section 221 of the Trade Act of 1974, as amended, an investigation was initiated on February 6, 2007 in response to a petition filed on behalf of workers of HRU, Inc., Technical Resources, Lansing, Michigan.

The petition regarding the investigation has been deemed invalid. The petition was signed by one dislocated worker. A petition filed by workers requires three signatures. Consequently, the investigation has been terminated.

Signed at Washington, DC, this 7th day of February 2007.
Richard Church,
Certifying Officer, Division of Trade Adjustment Assistance.

[FR Doc. E7-2472 Filed 2-13-07; 8:45 am]

BILLING CODE 4510-FN-P